DEPARTMENT OF THE INTERIOR

Fish and Wildlife Service

[FWS-R2-ES-2013-N018; FXES11130200000-145-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before April 10, 2014.

ADDRESSES: Wendy Brown, Chief, Recovery and Restoration Branch, by U.S. mail at Division of Classification and Restoration, U.S. Fish and Wildlife Service, P.O. Box 1306, Albuquerque, NM 87103 at 505-248-6920. Please refer to the respective permit number for each application when submitting comments.

FOR FURTHER INFORMATION CONTACT: Susan Jacobsen, Chief, Division of Classification and Restoration, P.O. Box 1306, Albuquerque, NM 87103; 505-248-6665.

SUPPLEMENTARY INFORMATION: The Act (16 U.S.C. 1531 et seq.) prohibits activities with endangered and threatened species unless a Federal permit allows such activities. Along with our implementing regulations in the Code of Federal Regulations (CFR) at 50 CFR 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-082492

Applicant: AZTEC Engineering Group, Inc., Phoenix, Arizona.

Applicant requests a renewal to a current permit for research and recovery purposes to conduct presence/absence surveys of black-footed ferret (Mustela nigripes) in Arizona and New Mexico; southwestern willow flycatcher (Empidonax traillii extimus) in Arizona, New Mexico, and Texas; and Yuma clapper rail (Rallus longirostris yumanensis) in Arizona.

Permit TE-061127

Applicant: Tierra Right of Way Services, Tucson, Arizona.

Applicant requests a renewal to a current permit for research and recovery purposes to conduct presence/absence surveys of lesser long-nosed bat (Leptonycteris yerbabuenae), Mexican long-nosed bat (Leptonycteris nivalis), and southwestern willow flycatcher (Empidonax traillii extimus), and to conduct transplanting activities for Pima pineapple cactus (Coryphantha scheeri var. robustispina) within Arizona.

Permit TE-819491

Applicant: Ecosphere Environmental Services, Inc., Durango, Colorado.

Applicant requests a renewal to a current permit for research and recovery purposes to conduct presence/absence surveys for black-footed ferret (Mustela nigripes) within Arizona, New Mexico, Colorado, Utah, and Wyoming, and southwestern willow flycatcher (Empidonax traillii extimus) within Arizona, Colorado, New Mexico, Texas, and Utah.

Permit TE-842583

Applicant: La Tierra Environmental Consulting, LLC., Las Cruces, New Mexico.

Applicant requests a renewal to a current permit for research and recovery purposes to conduct presence/absence surveys of southwestern willow flycatcher (Empidonax traillii extimus) and northern aplomado falcon (Falco femoralis septentrionalis) within New Mexico and Texas.

Permit TE-819458

Applicant: Organ Pipe Cactus National Monument, Ajo, Arizona.

Applicant requests a renewal to an expired permit for research and recovery purposes to conduct presence/absence surveys of lesser long-nosed bat (Leptonycteris yerbabuenae), southwestern willow flycatcher (Empidonax traillii extimus), and Sonoran pronghorn (Antilocapra americana sonoriensis); to maintain a refugium population of Quitobaquito pupfish (Cyprinodon macularius); and to conduct population monitoring, salvage, and seed collection of Acuña cactus (Echinomastus erectocentrus var. acunensis) at the Organ Pipe Cactus National Monument in Arizona.

Permit TE-33921A

Applicant: City of San Antonio, San Antonio, Texas.

Applicant requests an amendment to a current permit for research and recovery purposes to conduct presence/absence surveys of black-capped vireo (Vireo atricapilla) and golden-cheeked warbler (Dendroica chrysoparia) within Texas.

Permit TE-051581

Applicant: David Baggett, Huntsville, Texas.

Applicant requests reissuance of an expired permit for research and recovery purposes to conduct presence/absence surveys of red-cockaded woodpecker (Picoides borealis) within Texas.

Permit TE-26066A

Applicant: Rudy Bazan, Helotes, Texas.

Applicant requests a renewal to a current permit for research and recovery purposes to conduct presence/absence surveys of golden-cheeked warbler (Dendroica chrysoparia) within Texas.

Permit TE-076050

Applicant: McAlester Army Ammunition Plant, McAlester, Oklahoma.

Applicant requests a renewal to a current permit for research and recovery purposes to conduct presence/absence surveys and other research activities of American burying beetle (Nicrophorus americanus) within Oklahoma.

Permit TE-25736A

Applicant: Regina Overath, Corpus Christi, Texas.

Applicant requests a renewal to a current permit for research and recovery purposes to conduct presence/absence surveys; collect seeds, leaves, and voucher specimens; and conduct genetic analysis on the following species of listed plants from Federal lands within Texas: South Texas ambrosia (Ambrosia cheirathifolia), slender rush-pea (Hoffmannseggia tenella), and black lace cactus (Echinocereus reichenbachii var. albertii).

Permit TE-98704A

Applicant: Dogs for Conservation, Washington, Texas.

Applicant requests an amendment to a current permit for research and recovery purposes to conduct presence/absence surveys of Houston toads (Bufo houstonensis) using trained canines within Texas.

Permit TE-24625A

Applicant: Wendy Leonard, San Antonio, Texas.

Applicant requests a renewal to a current permit for research and recovery purposes to conduct presence/absence surveys of golden-cheeked warbler (Dendroica chrysoparia) and black-capped vireo (Vireo atricapilla) within Texas.

Permit TE-127287

Applicant: Loren Ammerman, San Angelo, Texas.

Applicant requests an amendment to a current permit for research and recovery purposes to add passive integrated transponder (PIT) tagging of 250 adult and juvenile Mexican long-nosed bats (Leptonycteris nivalis) at Emory Cave, Texas.

Permit TE-012642

Applicant: Blue Earth Ecological Consultants, Inc., Santa Fe, New Mexico.

Applicant requests a renewal to a current permit for research and recovery purposes to conduct presence/absence surveys of southwestern willow flycatcher (Empidonax traillii extimus), loach minnow (Tiaroga cobitis), and spikedace (Meda fulgida) within Arizona and New Mexico.

Permit TE-815409

Applicant: New Mexico Department of Game and Fish, Santa Fe, New Mexico.

Applicant requests a renewal to a current permit for research and recovery purposes to conduct presence/absence surveys of Jemez Mountains salamander (Plethodon neomexicanus) within New Mexico.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: February 20, 2014.
Joy E. Nicholopoulos,
Acting Regional Director, Southwest Region.

[FR Doc. 2014-05200 Filed 3-10-14; 8:45 am]

BILLING CODE 4310-55-P